DEPARTMENT OF AGRICULTURE

Agricultural Marketing Service

[Docket No. FV-06-311]

United States Standards for Grades of Cultivated Ginseng

AGENCY: Agricultural Marketing Service, USDA.

ACTION: Notice.

SUMMARY: The Agricultural Marketing Service (AMS) of the Department of Agriculture (USDA) is establishing voluntary United States Standards for Grades of Cultivated Ginseng. AMS received a request from an industry group representing cultivated ginseng growers to develop a standard that will provide the industry with a common language and uniform basis for trading, thus promoting the orderly and efficient marketing of cultivated ginseng.

DATES: Effective Date: January 18, 2007.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov.

The United States Standards for Grades of Cultivated Ginseng are available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS established voluntary United States Standards for Grades of Cultivated Ginseng using the procedures that appear in Part 36, Title 7 of the Code of Federal Regulations (7 CFR part 36).

Background

AMS received a request from an industry group representing cultivated ginseng growers to develop a standard that will provide a common language for trade and a means of measuring value in the marketing of cultivated ginseng. Based on information gathered and comments rendered by the industry, AMS developed a proposed U.S. Standards for Grades of Cultivated Ginseng. The proposed standards contained the following grades, as well as a range of numerical values for each grade: U.S. Premium, U.S. Select, U.S. Medium and U.S. Standard. In addition, proposed basic requirements for all grades, size, sample size, color, wrinkle and a definitions section would be established.

On June 28, 2006, AMS published a notice in the Federal Register (71 FR 36753), soliciting comments on the proposed United States Standards for Grades of Cultivated Ginseng.

In response to the notice, comments were received from two industry groups. One comment from an industry group was in favor of the standards as proposed. Another comment was also in favor of the proposed standards. However, they suggested that the section concerning Sample and Sample Size should be changed, and the words “at least” be added to the sample size to allow for any needed adjustments by the inspector while performing inspections. AMS agrees with this comment, because adjustments in the sample size may be necessary when performing the inspection. Consequently, AMS has added the wording “minimum” to the section.

The comments are available by accessing the AMS, Fresh Products Branch Web site at: http://www.ams.usda.gov/fv/fpbdocketlist.htm.

The adoption of the U.S. grade standards will provide the cultivated ginseng industry with U.S. grade standards similar to those extensively in use by the fresh produce industry to assist in orderly marketing of other commodities.

The official grade of a lot of cultivated ginseng covered by these standards will be determined by the procedures set forth in the Regulations Governing Inspection, Certification, and Standards of Fresh Fruits, Vegetables and Other Products (Sec. 51.1 to 51.61).

The United States Standards for Grades of Cultivated Ginseng will be effective 30 days after publication of this notice in the Federal Register.

Authority: 7 U.S.C. 1621-1627.

Dated: December 13, 2006.
Lloyd C. Day,
Administrator, Agricultural Marketing Service.

[FR Doc. E6-21568 Filed 12-18-06; 8:45 am]

BILLING CODE 3410-02-P